COMMITTEE FOR PURCHASE FROM PEOPLE WHO ARE BLIND OR SEVERELY DISABLED

Procurement List; Proposed Additions

AGENCY: Committee for Purchase From People Who Are Blind or Severely Disabled.

ACTION: Proposed additions to Procurement List.

SUMMARY: The Committee is proposing to add to the Procurement List commodities and services to be furnished by nonprofit agencies employing persons who are blind or have other severe disabilities.

COMMENTS MUST BE RECEIVED ON OR BEFORE: December 17, 2001.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740

SUPPLEMENTARY INFORMATION: This notice is published pursuant to 41 U.S.C. 47(a) (2) and 41 CFR 51-2.3. Its purpose is to provide interested persons an opportunity to submit comments on the possible impact of the proposed actions.

If the Committee approves the proposed additions, the entities of the Federal Government identified in this notice for each commodity and service will be required to procure the commodities and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46—48c) in connection with the commodities and services proposed for addition to the Procurement List. Comments on this certification are invited. Commenters should identify the statement(s) underlying the certification on which they are providing additional information.

The following commodities and services are proposed for addition to Procurement List for production by the nonprofit agencies listed:

Commodities

Brush, Tooth Brush Style

7920-00-900-3577

NPA: Industries for the Blind, Inc. Milwaukee, Wisconsin.

Government Agency: GSA/General Products Commodity Center

Mop, Twist-Wring and Twist-Wring Head.

7920-01-448-0218

7920-01-448-0220

NPA: L.C. Industries For The Blind, Inc. Durham, North Carolina.

Government Agency: GSA/General Products Commodity Center.

Services

Consolidated Document Retention

Various Army Installations

NPA: Didlake, Inc. Manassas, Virginia.

Government Agency: Department of the Army.

Grounds Maintenance

Basewide

Fort Bragg, North Carolina

NPA: Employment Source, Inc. Fayetteville, North Carolina.

Government Agency: Department of the Army, Fort Bragg

Janitorial/Custodial

Naval Sea Systems Command (NAVSEA) Building

Washington Navy Yard, DC.

NPA: Melwood Horticultural Training Center Upper Marlboro, Maryland

Government Agency: Department of the Navy, NAVSEA.

Janitorial/Custodial

VA Primary Care Clinic

620 South Route 31

McHenry, Illinois

NPA: The Chicago Lighthouse for People who are Blind or Visually Impaired Chicago, Illinois.

Government Agency: Department of Veterans Affairs.

Sheryl D. Kennerly,
Director, Information Management.

[FR Doc. 01-28751 Filed 11-15-01; 8:45 am]

BILLING CODE 6353-01-P